FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011867-003.

Title: Norasia/GSL/CSCL Round the World Service Agreement.

Parties: China Shipping Container Lines Co., Ltd.; China Shipping Container Lines (Hong Kong) Co., Ltd.; Gold Star Line Ltd.; and Norasia Container Lines Limited, Ltd.

Filing Party: Wayne R. Rohde, Esq., Sher & Blackwell LLP, 1850 M Street, NW., Suite 900, Washington, DC 20036.

Synopsis: The amendment deletes the China Shipping companies as parties to the agreement and restates and renames the agreement.

Agreement No.: 011939-001.

Title: COSCON/Agreement 011745 TransPacific All Water Vessel Sharing Agreement (Cue Service).

Parties: COSCO Container Lines Company Ltd.; Evergreen Marine Corporation Ltd.; Italia Marittima S.p.A.; and Hatsu Marine Limited.

Filing Party: Paul M. Keane, Esq.; Cichanowicz, Callan, Keane, Vengrow & Textor, LLP; 61 Broadway; Suite 3000; New York, NY 10006-2802.

Synopsis: The amendment changes the total number of vessels deployed under the agreement from nine to eight.

Agreement No.: 011954.

Title: Maersk Line/Westwood Space Charter Agreement.

Parties: A.P. Moller-Maersk A/S and Westwood Shipping Lines, Inc.

Filing Party: Wayne R. Rohde, Esq.; Sher & Blackwell LLP, 1850 M Street, NW.; Suite 900; Washington, DC 20036.

Synopsis: The agreement authorizes Maersk to charter space to Westwood between ports in Washington State and ports in Japan and Korea.

By Order of the Federal Maritime Commission.
Dated: April 14, 2006.
Karen V. Gregory,
Assistant Secretary.

[FR Doc. E6-5862 Filed 4-18-06; 8:45 am]

BILLING CODE 6730-01-P